NATIONAL INDIAN GAMING COMMISSION

25 CFR Part 502

RIN 3141-AA10

Definitions: Electronic or Electromechanical Facsimile

AGENCY: National Indian Gaming Commission.

ACTION: Proposed rule: Notice of extension of time.

SUMMARY: On June 22, 2001, the National Indian Gaming Commission (Commission) issued a Notice of Proposed Rulemaking (Volume 66, Number 121, Pages 33494-33495)) proposing amending its regulations by removing the definition of “electronic and electromechanical facsimile” now set forth at 25 CFR 502.8 and using, instead, the plain language interpretation of the phrase. Upon a formal request from the United States Department of Justice, the date for filing comments is being extended.

DATES: Comments shall be filed on or before August 21, 2001.

ADDRESSES: Send comments by mail, facsimile, or hand delivery to: Definitions: Electronic and Electromechanical Facsimile, Amendment Comments, National Indian Gaming Commission, Suite 9100, 1441 L Street, NW., Washington, DC 20005. Fax number: 202-632-7066 (not a toll-free number). Public comments may be delivered or inspected from 9 a.m. until noon and from 2 p.m. to 5 p.m. Monday through Friday.

FOR FURTHER INFORMATION, CONTACT: Michele F. Mitchell at 202-632-7003 or, by fax, at 202-632-7066 (these are not toll-free numbers).

SUPPLEMENTARY INFORMATION: The Indian Gaming Regulatory Act (“IGRA” or “Act”) 25 U.S.C. 2701-2721, enacted on October 17, 1988, established the National Indian Gaming Commission (Commission). On April 9, 1992, the Commission issued a final rule defining key terms in the Act. Among the terms defined by the Commission was “electronic or electromechanical facsimile.” The Commission defined this term by reference to the Johnson Act, 15 U.S.C. 1171(a)(2) and (3). See 25 CFR 502.8. To ensure consistency with developments in the case law and to ensure a uniform approach to this term by the Commission and the courts, the Commission, on June 22, 2001, proposed and sought public comment on removal of 25 CFR 502.8 and on using, instead, the plain language interpretation that has been preferred by the courts. The initial comment period expired on July 23, 2001. The United States Department of Justice has formally requested additional time to prepare comments on the proposed regulation. In addition, several comments were received after the initial comment period ended. The Commission has decided to extend the comment period until August 21, 2001.

Dated: August 3, 2001.
Montie R. Deer,
Chairman, National Indian Gaming Commission.

[FR Doc. 01-19954 Filed 8-8-01; 8:45 am]

BILLING CODE 7565-01-P